DEPARTMENT OF JUSTICE

Office of Justice Programs

[OMB Number 1121-0220]

Agency Information Collection Activities: Extension of a Currently Approved Collection: Comments Requested

ACTION: 30-Day notice of information collection under review: Extension of a currently approved collection.

Bureau of Justice Assistance Application Form: Public Safety Officers Educational Assistance.*

The Department of Justice (DOJ), Office of Justice Programs (OJP) has submitted the following information collection request to the Office of Management and Budget (OMB) for review and approval in accordance with the Paperwork Reduction Act of 1995. The proposed collection information is published to obtain comments from the public and affected agencies. This proposed information collection was previously published in the Federal Register [Volume 71, Number 195, page 59524 on October 10, 2006] allowing for a 60-day comment period. The purpose of this notice is to allow for an additional 30 days for public comment until January 4, 2007. This process is conducted in accordance with 5 CFR 1320.10.

Written comments and/or suggestions regarding the items contained in this notice, especially the estimated public burden and associated response time, should be directed to the Office of Management and Budget, Office of Information and Regulatory Affairs, Attention Department of Justice Desk Officer, Washington, DC 20503. Additionally, comments may be submitted to OMB via facsimile to (202) 395-5806. Comments may also be submitted to M. Pressley, Bureau of Justice Assistance, Office of Justice Programs, U.S. Department of Justice, 810 7th Street, NW., Washington, DC 20531 via facsimile to (202) 305-1367.

Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Overview of this information collection:

(1) Type of Information Collection: Extension of a currently approved collection.

(2) Title of the Form/Collection: Public Safety Officers Educational Assistance.

(3) Agency form number, if any, and the applicable component of the Department of Justice sponsoring the collection: None.

(4) Affected public who will be asked or required to respond, as well as a brief abstract:

Primary: Dependents of public safety officers who were killed or permanently and totally disabled in the line of duty.

Abstract: BJA's Public Safety Officers' Benefits (PSOB) division will use the PSOEA Application information to confirm the eligibility of applicants to receive PSOEA benefits. Eligibility is dependent on several factors, including the applicant having received a portion of the PSOB Death Benefit or having a family member who received the PSOB Disability Benefit, the applicant's age, and the schools being attended. In addition, information to help BJA identify an individual is collected, Social Security number and contact numbers and e-mail addresses. The changes to the application form have been made in an effort to streamline the application process and eliminate requests for information that is either irrelevant or already being collected by other means.

Others: None.

(5) An estimate of the total number of respondents and the amount of time needed for an average respondent to respond is as follows: It is estimated that no more than 78 respondents will apply a year. Each application takes approximately 20 minutes to complete.

(6) An estimate of the total public burden (in hours) associated with the collection is 26 hours. Total Annual Reporting Burden: 78 × 20 minutes per application = 1560 minutes/by 60 minutes per hour = 26 hours.

If additional information is required, please contact, Lynn Bryant, Department Clearance Officer, United States Department of Justice, Justice Management Division, Policy and Planning Staff, Patrick Henry Building, Suite 1600, 601 D Street, NW., Washington, DC 20530.

Dated: November 29, 2006.
Lynn Bryant,
Department Clearance, United States Department of Justice.

[FR Doc. E6-20510 Filed 12-4-06; 8:45 am]

BILLING CODE 4410-18-P